DEPARTMENT OF AGRICULTURE

Agricultural Marketing Service

[Doc. No. AMS-TM-09-0060; TM-09-07]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Tuesday, November 3, 2009, 9 a.m. to 5 p.m.; Wednesday, November 4, 2009, 8 a.m. to 5 p.m.; and Thursday, November 5, 2009, 8 a.m. to 5 p.m. Requests from individuals and organizations wishing to make oral presentations at the meeting are due by the close of business on October 19, 2009.

ADDRESSES: The meeting will take place at the Washington Plaza Hotel, 10 Thomas Circle, NW., Washington, DC 20005.

• Requests for copies of the NOSB meeting agenda, may be sent to Ms. Valerie Frances, Executive Director, NOSB, USDA-AMS-TMP-NOP, 1400 Independence Ave., SW., Room 4004-So., Ag Stop 0268, Washington, DC 20250-0268. The NOSB meeting agenda and proposed recommendations may also be viewed at http://www.ams.usda.gov/nop.

• Comments on proposed NOSB recommendations may be submitted by the close of business of October 19, 2009, in writing to Ms. Valerie Frances at either the postal address above or via the Internet at http://www.regulations.gov only. The comments should identify Docket No. AMS-TM-09-0060. It is our intention to have all comments to this notice whether they are submitted by mail or the Internet available for viewing on the http://www.regulations.gov Web site.

• Requests to make an oral presentation at the meeting may also be sent by October 19, 2009, to Ms. Valerie Frances at the postal address above, by e-mail at valerie.frances@ams.usda.gov, via facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 170 addenda to its recommendations and reviewed more than 353 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding five years unless the exemption or prohibition is reviewed and recommended for renewal by the NOSB and adopted by the Secretary of Agriculture. This expiration is commonly referred to as sunset of the National List. The National List appears at 7 CFR part 205, subpart G.

The principal purposes of the NOSB meeting are to provide an opportunity for the NOSB to receive an update from the USDA/NOP and hear progress reports from NOSB committees regarding work plan items and proposed action items. The last NOSB meeting was held on May 4-6, 2009, in Washington, DC.

At its last meeting, the Board recommended the addition of three materials with one on the National List § 205.601 for use in crops, one on § 205.603 for use in livestock and with one on § 205.606 for use in handling.

At this meeting, the NOSB will conclude its review of 11 of the 12 materials scheduled to expire after September 12, 2011. There are two synthetic substances: Hydrogen chloride (CAS # 7647-01-0) and Ferric phosphate (CAS # 10045-86-0), currently allowed for use in organic crop production, that will no longer be allowed for use after September 12, 2011. There are ten materials: Egg white lysozyme (CAS # 9001-63-2), L-Malic acid (CAS # 97-67-6), Microorganisms, Activated charcoal (CAS #s 7440-44-0; 64365-11-3), Cyclohexylamine (CAS # 108-91-8), Diethylaminoethanol (CAS # 100-37-8), Octadecylamine (CAS # 124-30-1), Peracetic acid/Peroxyacetic acid (CAS # 79-21-0), Sodium acid pyrophosphate (CAS # 7758-16-9), and Tetrasodium pyrophosphate (CAS # 7722-88-5), currently allowed for use in organic handling, that will no longer be allowed for use after September 12, 2011. The sunset review process must be concluded no later than September 12, 2011. If renewal is not concluded by those dates, the use of these 12 materials will no longer be in compliance with the NOP.

The NOSB will also begin its review pertaining to the continued exemption (use) of 37 agricultural products not commercially available as organic that are scheduled to expire after June 27, 2012. These products are allowed for use in organic handling in or on processed products based on final commercial availability determinations by accredited certifying agents. The NOSB will also begin its review pertaining to the continued exemption (use) and prohibition of 166 substance listings used in organic production and handling scheduled to expire after October 7, 2012.

At this meeting, the Policy Development Committee will present recommendations regarding revisions to the NOSB Policy and Procedures Manual.

The Compliance, Accreditation, and Certification Committee will present their recommendation to the NOP for use as guidance for retailers, accredited certifying agents, and the NOP on the allowance and use of voluntary retail certification, and their recommendation for rule change on the regulation of personal body care products under the NOP.

The Crops Committee will present recommendations on the materials peracetic acid and manganese sulfate monohydrate petitioned for use in crops on § 205.601.

The Crops Committee will conclude their review on the continued use of the material exemptions for Hydrogen chloride (CAS # 7647-01-0) and will continue their review on the continued use of Ferric phosphate (CAS # 10045-86-0), with their respective annotations and limitations, currently allowed for use in organic crop production, that will no longer be allowed for use after September 12, 2011.

The Crops Committee will begin their review pertaining to the continued exemption (use) the following synthetic substances allowed for use in on § 205.601 that are scheduled to expire after October 7, 2012 from use in organic crop production: Ethanol; Isopropanol; Calcium hypochlorite; Chlorine dioxide; Sodium hypochlorite; Hydrogen peroxide; Soap-based algicide/demossers; Herbicides, soap-based; Newspaper or other recycled paper, without glossy or colored inks; Plastic mulch and covers; Newspapers or other recycled paper, without glossy or colored inks; Soaps, ammonium; Ammonium carbonate; Boric acid; Elemental sulfur (3 uses); Lime sulfur; Oils, horticultural-narrow range oils as dormant, suffocating, and summer oils (2 uses); Soaps, insecticidal; Sticky traps/barriers; Pheromones; Sulfur dioxide; Vitamin D3; Copper hydroxide; Copper oxide; Copper oxychloride; Copper sulfate (2 uses); Hydrated lime; Hydrogen peroxide; Lime sulfur; Potassium bicarbonate; Streptomycin; Tetracycline (oxytetracycline calcium complex); Aquatic plant extracts (other than hydrolyzed); Humic acids; Lignin sulfonate; Magnesium sulfate; Soluble boron products; Sulfates, carbonates, oxides, or silicates of zinc, copper, iron, manganese, molybdenum, selenium, and cobalt; Liquid fish products; Vitamin B1; Vitamin C; Vitamin E; Ethylene gas; Lignin sulfonate; Sodium silicate; and EPA List 4-Inerts of Minimal Concern.

The Crops Committee will begin their review pertaining to the continued prohibition of the following synthetic substances on § 205.602 which are scheduled to expire and be allowed for use after October 7, 2012 in organic crop production: Ash from manure burning; Arsenic; Lead salts; Potassium chloride; Sodium fluoaluminate (mined); Sodium nitrate; Strychnine; and Tobacco dust (nicotine sulfate).

The Materials Committee will present its recommendation to the NOP for rule change on various definitions and the use of nanotechnology in organic standards.

The Livestock Committee will present their recommendations on the material Eprinomectin petitioned for use in livestock production on § 205.603.

The Livestock Committee will present its recommendations on technical corrections to the annotations for the materials: Vaccines, Excipients, Chlorhexidine, and Xylazine currently allowed on § 205.603 for use in organic livestock production.

The Livestock Committee will also present their recommendations to the NOP in regards to the development of more specific standards for the improvement of animal welfare under organic management and for the development of organic aquaculture standards for bivalves.

The Livestock Committee will begin their review pertaining to the continued exemption (use) of the following synthetic substances allowed for use in organic livestock production on § 205.603 that are scheduled to expire after October 7, 2012: Ethanol; Isopropanol; Aspirin; Vaccines; Chlorhexidine; Calcium hypochlorite. Chlorine dioxide; Sodium hypochlorite; Electrolytes; Glucose; Glycerine; Hydrogen peroxide; Iodine; Magnesium sulfate; Oxytocin; Ivermectin; Phosphoric acid; Copper sulfate; Iodine; Lidocaine; Lime, hydrated; Mineral oil; Procaine; Trace minerals; Vitamins; EPA List 4-Inerts of Minimal Concern.

The Livestock Committee will also begin their review pertaining to the continued prohibition of the following synthetic substance on § 205.604 which is scheduled to expire and be allowed for use after October 7, 2012 in organic livestock production: Strychnine.

The Materials and Handling Committees will jointly present their recommendations to the NOP to clarify the definitions of the National List.

The Handling Committee will conclude their review on the continued use of the material exemptions for ten materials: Egg White Lysozyme (CAS # 9001-63-2), L-Malic acid (CAS # 97-67-6), Microorganisms, Activated charcoal (CAS #s 7440-44-0; 64365-11-3), Cyclohexylamine (CAS # 108-91-8), Diethylaminoethanol (CAS # 100-37-8), Octadecylamine (CAS # 124-30-1), Peracetic acid/Peroxyacetic acid (CAS # 79-21-0), Sodium acid pyrophosphate (CAS # 7758-16-9), and Tetrasodium pyrophosphate (CAS # 7722-88-5), with their respective annotations and limitations currently allowed for use in organic handling on § 205.605, that will no longer be allowed for use after September 12, 2011.

The Handling Committee will begin their review pertaining to the continued exemption (use) of the nonorganically produced agricultural products allowed as ingredients in or on processed products labeled as “organic” on § 205.606 depending on final commercial availability determinations performed by accredited certifying agents scheduled to expire after June 27, 2012.

The following are allowed as color ingredients from agricultural products: Annatto extract color (pigment CAS # 1393-63-1)—water and oil soluble; Beet juice extract color (pigment CAS # 7659-95-2); Beta-Carotene extract color from carrots (CAS # 1393-63-1); Black currant juice color (pigment CAS #'s: 528-58-5, 528-53-0, 643-84-5, 134-01-0, 1429-30-7, and 134-04-3); Black/Purple carrot juice color (pigment CAS #'s: 528-58-5, 528-53-0, 643-84-5, 134-01-0, 1429-30-7, and 134-04-3); Blueberry juice color (pigment CAS #'s: 528-58-5, 528-53-0, 643-84-5, 134-01-0, 1429-30-7, and 134-04-3); Carrot juice color (pigment CAS # 1393-63-1); Cherry juice color (pigment CAS #'s: 528-58-5, 528-53-0, 643-84-5, 134-01-0, 1429-30-7, and 134-04-3); Chokeberry—Aronia juice color (pigment CAS #'s: 528-58-5, 528-53-0, 643-84-5, 134-01-0, 1429-30-7, and 134-04-3); Elderberry juice color (pigment CAS #'s: 528-58-5, 528-53-0, 643-84-5, 134-01-0, 1429-30-7, and 134-04-3); Grape juice color (pigment CAS #'s: 528-58-5, 528-53-0, 643-84-5, 134-01-0, 1429-30-7, and 134-04-3); Grape skin extract color (pigment CAS #'s: 528-58-5, 528-53-0, 643-84-5, 134-01-0, 1429-30-7, and 134-04-3); Paprika color—dried powder and vegetable oil extract (CAS # 68917-78-2); Pumpkin juice color (pigment CAS # 127-40-2); Purple potato juice color (pigment CAS #'s: 528-58-5, 528-53-0, 643-84-5, 134-01-0, 1429-30-7, and 134-04-3); Red cabbage extract color (pigment CAS #'s: 528-58-5, 528-53-0, 643-84-5, 134-01-0, 1429-30-7, and 134-04-3); Red radish extract color (pigment CAS #'s: 528-58-5, 528-53-0, 643-84-5, 134-01-0, 1429-30-7, and 134-04-3); Saffron extract color (pigment CAS # 1393-63-1), and Turmeric extract color (CAS # 458-37-7).

The following are allowed as ingredients or processing aids from agricultural products: Casings, from processed intestines (no CAS #); Celery powder (No CAS #); Chia (Salvia hispanica L.) (no CAS #); Dillweed oil (CAS # 8006-75-5); Fish oil (Fatty acid CAS #'s: 10417-94-4, and 25167-62-8); Fructooligosaccharides (CAS # 308066-66-2); Galangal, frozen (no CAS #); Gelatin (CAS # 9000-70-8); Hops (Humulus lupulus) (no CAS #); Inulin, oligofructose enriched (CAS # 9005-80-5); Konjac flour (CAS # 37220-17-0); Lemongrass, frozen (no CAS #); Orange shellac, unbleached (CAS # 9000-59-3); Pepper, chipotle chile (no CAS #); Sweet potato starch, for bean thread production only (no CAS #); Turkish bay leaves (no CAS #); Wakame seaweed (Undaria pinnatifida) (no CAS #); and Whey protein concentrate (no CAS #).

The Handling Committee will begin their review pertaining to the continued exemption (use) of the following nonagricultural (nonorganic) substances allowed as ingredients in or on processed products labeled as “organic” or “made with organic (specified ingredients or food groups(s)) currently scheduled for expiration after October 7, 2012 from § 205.605 as (a) Nonsynthetics allowed: Acids (Alginic; Citric; and Lactic); Bentonite; Calcium carbonate; Calcium chloride; Carageenan; Dairy cultures; Diatomaceous earth; Enzymes; Flavors; Kaolin; Magnesium sulfate; Nitrogen; Oxygen; Perlite; Potassium chloride; Potassium iodide; Sodium bicarbonate; Sodium carbonate; Waxes; Yeast (Autolysate; Bakers; Brewers; Nutritional; and Smoked).

The Handling Committee will begin their review pertaining to the continued exemption (use) of the following nonagricultural (nonorganic) substances allowed as ingredients in or on processed products labeled as “organic” or “made with organic (specified ingredients or food groups(s)) currently scheduled for expiration after October 7, 2012 listed on § 205.605 as (b) Synthetics allowed: Alginates; Ammonium bicarbonate; Ammonium carbonate; Ascorbic acid; Calcium citrate; Calcium hydroxide; Calcium phosphates (monobasic, dibasic, and tribasic); Carbon dioxide; Chlorine materials (Calcium hypochlorite; Chlorine dioxide; and Sodium hypochlorite); Ethylene; Ferrous sulfate; Glycerides (mono and di) Glycerin; Hydrogen peroxide; Lecithin—bleached; Magnesium carbonate; Magnesium chloride; Magnesium stearate; Nutrient vitamins and minerals; Ozone; Pectin (low-methoxy); Phosphoric acid; Potassium acid tartrate; Potassium carbonate; Potassium citrate; Potassium hydroxide; Potassium iodide; Potassium phosphate; Silicon dioxide; Sodium citrate; Sodium hydroxide; Sodium phosphates; Sulfur dioxide; Tocopherols; and Xanthan gum.

The Handling Committee will begin their review pertaining to the continued exemption (use) of the nonorganically produced agricultural products allowed as ingredients in or on processed products labeled as “organic” on § 205.606 depending on final commercial availability determinations performed by accredited certifying agents that are scheduled to expire after October 7, 2012. They are as follows: Cornstarch (native); Gums-water extracted only (arabic, guar, locust bean, carob bean); Kelp; Lecithin-unbleached; and Pectin (high-methoxy).

The Meeting is Open to the Public. The NOSB has scheduled time for public input for Tuesday, November 3, 2009, from 10:45 a.m. to 5 p.m. and Wednesday, November 4, 2009, from 3:30 p.m. to 5 p.m. Individuals and organizations wishing to make oral presentations at the meeting may forward their requests by mail, facsimile, e-mail, or phone to Ms. Valerie Frances as listed in ADDRESSES above. Individuals or organizations will be given approximately five minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit http://www.regulations.gov to submit and view comments as provided for in ADDRESSES above. Documents presented at the meeting will be posted for review on the NOP Web site approximately six weeks following the meeting.

Dated: August 28, 2009.
Rayne Pegg,
Administrator, Agricultural Marketing Service.

[FR Doc. E9-21610 Filed 9-8-09; 8:45 am]

BILLING CODE 3410-02-P